DEPARTMENT OF VETERANS AFFAIRS

[OMB Control No. 2900-NEW]

Proposed Information Collection (Conduct the Point-of-Care Research Questionnaire) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on information needed to develop and implement a new research protocol in the VA.

DATES: Written comments and recommendations on the proposed collection of information should be received on or before April 8, 2013.

ADDRESSES: Submit written comments on the collection of information through Federal Docket Management System (FDMS) at www.Regulations.gov; or to Cynthia Harvey-Pryor, Veterans Health Administration (10P7BFP), Department of Veterans Affairs, 810 Vermont Avenue NW., Washington, DC 20420; or email: cynthia.harvey-pryor@va.gov. Please refer to “OMB Control No. 2900-NEW (Conduct the Point-of-Care Research Questionnaire)” in any correspondence. During the comment period, comments may be viewed online through the FDMS.

FOR FURTHER INFORMATION CONTACT: Cynthia Harvey-Pryor (202) 461-5870 or FAX (202) 273-9381.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Conduct the Point-of-Care Research Questionnaire, VA Form 10-0557.

OMB Control Number: 2900-NEW (Conduct the Point-of-Care Research Questionnaire).

Type of Review: New collection.

Abstract: The data collected on VA Form 10-0557 will be used as a grant to evaluate patient and provider attitudes and willingness to participate in Point-of-Care Research (POC-R). POC-R is an intermediary approach to bridge the gap between clinical trials and observation studies. The POC-R provides a potential mechanism for improving the breadth and significant of clinical research programs in VA. The objectives of this study are twofold: (1) identify the barriers and facilitators to adoption of a Point-of-care research innovation program by assessing the perceptions and attitudes of patients; and (2) produce guidelines for VHA regarding implementation of POC-R.

Affected Public: Individuals or Households.

Estimated Annual Burden: 2,000 hours.

Estimated Average Burden Per Respondent: 15 minutes.

Frequency of Response: Annually.

Estimated Number of Respondents: 8,000.

Dated: February 1, 2013.
By direction of the Secretary.
William F. Russo,
Deputy Director, Office of Regulations Policy and Management, Office of General Counsel, Department of Veterans Affairs.

[FR Doc. 2013-02789 Filed 2-6-13; 8:45 am]

BILLING CODE 8320-01-P